DEPARTMENT OF HEALTH AND HUMAN SERVICES

Health Resources and Service Administration

CDC/HRSA Advisory Committee on HIV, Viral Hepatitis and STD Prevention and Treatment

AGENCY: Health Resources and Service Administration (HRSA), Department of Health and Human Services, (HHS).

ACTION: Notice of meeting.

SUMMARY: In accordance with section 10(a)(2) of the Federal Advisory Committee Act (Pub. L. 92-463), notice is hereby given that a meeting is scheduled for the Centers for Disease Control and Prevention (CDC)/HRSA Advisory Committee on HIV, Viral Hepatitis and STD Prevention and Treatment. This meeting will be open to the public. Information about the CDC/HRSA Advisory Committee on HIV, Viral Hepatitis and STD Prevention and Treatment and the agenda for this meeting can be obtained by contacting LCDR Holly Berilla at (301) 443-9965 or hberilla@hrsa.gov.

DATES: The meeting will be held on November 16, 2016, from 8:30 a.m. to 5:00 p.m. and November 17, 2016, from 8:30 a.m. to 3:30 p.m.

ADDRESSES: This meeting will be held in-person and offer virtual access through teleconference and Adobe Connect. The address for the meeting is 5600 Fishers Lane, Rockville, Maryland 20857, Room 5A02 (Pavilion). Parties may access the teleconference by dialing 800-369-1193 and using the public participant code: 7050725. Parties may also access the meeting through Adobe Connect (visual only) by using the following URL: https://hrsa.connectsolutions.com/CHAC_1116.

FOR FURTHER INFORMATION CONTACT: Anyone requesting information regarding the CDC/HRSA Advisory Committee on HIV, Viral Hepatitis and STD Prevention and Treatment should contact LCDR Holly Berilla, Public Health Analyst, Division of Policy and Data (DPD), HIV/AIDS Bureau (HAB), HRSA, in one of three ways: (1) Send a request to the following address: LCDR Holly Berilla, Public Health Analyst, DPD, HAB, HRSA, 5600 Fishers Lane, 09N164C, Rockville, Maryland 20857; (2) call 301-443-9965; or (3) send an email to hberilla@hrsa.gov.

SUPPLEMENTARY INFORMATION: The CDC/HRSA Advisory Committee on HIV, Viral Hepatitis and STD Prevention and Treatment was established under Section 222 of the Public Health Service Act, [42 U.S.C. Section 217a], as amended.

The purpose of the CDC/HRSA Advisory Committee on HIV, Viral Hepatitis and STD Prevention and Treatment is to advise the Secretary, HHS; the Director, CDC; and the Administrator, HRSA regarding objectives, strategies, policies, and priorities for HIV, viral hepatitis, and other STDs; prevention and treatment efforts including surveillance of HIV infection, AIDS, viral hepatitis, and other STDs, and related behaviors; epidemiologic, behavioral, health services, and laboratory research on HIV/AIDS, viral hepatitis, and other STDs; identification of policy issues related to HIV/viral hepatitis/STD professional eduction, patient healthcare delivery, and prevention services; Agency policies about prevention of HIV/AIDS, viral hepatitis and other STDs; treatment, healthcare delivery, and research and training; strategic issues influencing the ability of CDC and HRSA to fulfill their missions of providing prevention and treatment services; programmatic efforts to prevent and treat HIV, viral hepatitis, and other STDs; and support to the Agencies in their developoment of responses to emerging health needs related to HIV, viral hepatitis, and other STDs.

During the November 16-17, 2016, meeting, the CDC/HRSA Advisory Committee on HIV, Viral Hepatitis and STD Prevention and Treatment will discuss and deliberate on areas for evaluation by HRSA/HAB; expansion of national viral hepatitis programs; employment, housing, aging and leadership initiatives geared to people living with HIV/AIDS; and updates from Committee workgroups. Agenda items are subject to change as priorities dictate.

Members of the public will have the opportunity to provide comments. Oral comments will be honored in the order they are requested and may be limited as time allows. Requests to make oral comments or provide written comments to the CDC/HRSA Advisory Committee on HIV, Viral Hepatitis and STD Prevention and Treatment should be sent to LCDR Holly Berilla, using the address and phone number listed above by November 1, 2016. The building at 5600 Fishers Lane, Rockville, MD 20857, requires a security screening on entry. To facilitate access to the building please contact LCDR Holly Berilla at the address and phone number listed above. Individuals who plan to attend and need special assistance, such as sign language interpretation or other reasonable accommodations, should notify LCDR Holly Berilla at the address and phone number listed above at least 10 days prior to the meeting.

Jason E. Bennett,
Director, Division of the Executive Secretariat.

[FR Doc. 2016-24807 Filed 10-13-16; 8:45 am]

BILLING CODE 4165-15-P